DEPARTMENT OF STATE

[Public Notice: 12750]

Notice of Public Meeting in Preparation for International Maritime Organization III 11

SUMMARY: The Department of State will conduct an open meeting at 10:00 a.m. on Thursday, July 17, 2025, both in-person at Coast Guard Headquarters in Washington, DC, and via teleconference through Microsoft Teams. The primary purpose of the meeting is to prepare for the eleventh session of the International Maritime Organization's (IMO) Sub-Committee on Implementation of IMO Instruments (III 11) to be held at the IMO Headquarters in London, United Kingdom from Monday, July 21, 2025, to Friday, July 25, 2025. Members of the public may participate up to the capacity of the teleconference line, which can handle 500 participants or up to the seating capacity of the room if attending in-person. The meeting location will be the United States Coast Guard Headquarters, and the teleconference line will be provided to those who RSVP.

FOR FURTHER INFORMATION CONTACT: Those who plan to participate may contact the meeting coordinator, Mr. Christopher Gagnon, by email at Christopher.J.Gagnon@uscg.mil, by phone at (202) 372-1231, or in writing at 2703 Martin Luther King Jr. Ave. SE, Stop 7501, Washington, DC 20593-7509. Members of the public needing reasonable accommodation should advise Mr. Gagnon no later than July 11, 2025. Requests made after that date will be considered but might not be possible to fulfill.

SUPPLEMENTARY INFORMATION: The agenda items to be considered at the advisory committee mirror those to be considered at III 11, and include:

—Adoption of the agenda;

—Decisions of other IMO bodies;

—Consideration and analysis of reports on alleged inadequacy of port reception facilities;

—Lessons learned and safety issues identified from the analysis of marine safety investigation reports;

—Measures to harmonize port state control (PSC) activities and procedures worldwide;

—Validate model training courses;

—Identified issues related to the implementation of IMO instruments from the analysis of data;

—Updated survey guidelines under the Harmonized System of Survey and Certification (HSSC);

—Non-exhaustive list of obligations under the instruments relevant to the IMO Instruments Implementation Code (III Code);

—Development of guidance on assessments and applications of remote surveys, ISM Code audits and ISPS Code verifications;

—Unified interpretation of provisions of IMO safety, security, and environment related conventions;

—Follow-up work emanating from the Action Plan to address plastic litter from ships;

—Biennial status report and provisional agenda for III 12;

—Election of Chair and Vice-Chair for 2026;

—Any other business;

—Report to the Committees; and

—Action requested of the Sub-Committee.

Please note: The IMO may, on short notice, adjust the III 11 agenda to accommodate any constraints associated with the meeting. Although no changes to the agenda are anticipated, if any are necessary, they will be provided to those who RSVP.

Additional information regarding this and other IMO public meetings may be found at: https://www.dco.uscg.mil/IMO.

(Authority: 22 U.S.C. 2656 and 5 U.S.C. 552)

Emily C. Miletello,
Coast Guard Liaison Officer, Office of Ocean and Polar Affairs, Department of State.

[FR Doc. 2025-13361 Filed 7-16-25; 8:45 am]

BILLING CODE 4710-09-P